DEPARTMENT OF TRANSPORTATION

Office of the Secretary

[Docket No. OST-1995-246]

North American Free Trade Agreement Conference

AGENCY: Office of the Secretary, DOT.

ACTION: Notice.

SUMMARY: This notice announces postponement of the North American Free Trade Agreement (NAFTA) information conference, which was to have taken place at the Hyatt Hotel in San Antonio, Texas, October 21-24, 2001.

Background: In anticipation of the United States moving forward with implementation of the land transportation provisions of the NAFTA, the Department of Transportation (DOT), in cooperation with Canada, Mexico, other federal agencies, and state and provincial representatives, announced a NAFTA information conference that would take place in San Antonio, Texas, October 21-24, 2001 to promote an understanding of the requirements for legal cross-border transport operations among the three NAFTA countries. The conference was announced in the Federal Register on July 13, 2001 (Vol. 66, No. 135; p. 36819).

Postponement: Due to the unforeseen events of September 11, 2001, the conference is postponed. A new date will be announced by DOT in the near future. More information can be obtained at the DOT website, which is located at www.dot.gov/NAFTA. Anyone who has registered for the conference may either receive a full refund of the registration fee or they may take no action and will be considered as registered for the conference at its future date. Those wishing to request a refund should contact the Free Trade Alliance San Antonio at 203 South St. Mary's Street, Suite 130, San Antonio, Texas 78205; by telephone at 210-229-9036, or by fax at 210-229-9724. To cancel reservations at the Hyatt Hotel, 123 Lasoya Street, San Antonio, Texas 78205, please telephone 210-222-1234 or send faxes to 210-227-4927. Those electing to remain registered for the conference will be contacted individually when a new date has been chosen. Additional information can be found on the Free Trade Alliance website at www.freetradealliance.org.

Address and Phone Numbers: For further information please contact Eddie Carazo, U.S. Department of Transportation, OST/X-20, Room 10300, 400 Seventh Street, SW., Washington, DC 20590, telephone (202) 366-2892, or fax (202) 366-7417.

Dated: September 19, 2001.
Bernestine Allen,
Director, Office of International, Transportation and Trade.

[FR Doc. 01-23989 Filed 9-25-01; 8:45 am]

BILLING CODE 4910-62-P